NATIONAL SCIENCE FOUNDATION

Sunshine Act Meeting; National Science Board

The National Science Board's ad hoc Committee on Nominating the NSB Class of 2018-2024, pursuant to NSF regulations (45 CFR part 614), the National Science Foundation Act, as amended (42 U.S.C. 1862n-5), and the Government in the Sunshine Act (5 U.S.C. 552b), hereby gives notice of change in the scheduling of a teleconference for the transaction of National Science Board business.

FEDERAL REGISTER CITATION OF PREVIOUS ANNOUNCEMENT: The original notice for this meeting was published at 82 FR 47029, October 10, 2017.

PREVIOUSLY ANNOUNCED TIME AND DATE OF MEETING: Friday, October 13, 2017 at 5:00-7:00 p.m. EDT.

CHANGES IN MEETING: The teleconference meeting will be held on October 14, 2017 from 4:00-6:00 p.m. EDT.

CONTACT PERSON FOR MORE INFORMATION: Point of contact for this meeting is: Brad Gutierrez, bgutierr@nsf.gov, 703-292-7000.

Chris Blair,
Executive Assistant to the NSB Office.

[FR Doc. 2017-22261 Filed 10-10-17; 4:15 pm]

BILLING CODE 7555-01-P